INTERNATIONAL TRADE COMMISSION

[Investigation No. 332-523]

U.S.-Korea Free Trade Agreement: Passenger Vehicle Sector Update

AGENCY: United States International Trade Commission.

ACTION: Institution of investigation and request for written statements.

SUMMARY: Following receipt of a request dated January 27, 2011, from the U.S. House of Representatives Committee on Ways and Means (Committee) under section 332(g) of the Tariff Act of 1930 (19 U.S.C. 1332(g)), the U.S. International Trade Commission (Commission) instituted investigation No. 332-523, U.S.-Korea Free Trade Agreement: Passenger Vehicle Sector Update.

DATES: February 14, 2011: Deadline for filing written statements. March 15, 2011: Transmittal of Commission report to the Committee.

ADDRESSES: All Commission offices are located in the United States International Trade Commission Building, 500 E Street, SW., Washington, DC. All written submissions should be addressed to the Secretary, United States International Trade Commission, 500 E Street, SW., Washington, DC 20436. The public record for this investigation may be viewed on the Commission's electronic docket (EDIS) at https://edis.usitc.gov/edis3-internal/app.

FOR FURTHER INFORMATION CONTACT: Brian Allen, Co-Project Leader, Office of Industries (202-205-3034 or brian.allen@usitc.gov) or Deborah McNay, Co-Project Leader, Office of Industries (202-205-3425 or deborah.mcnay@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In April 2007, the U.S. Trade Representative (USTR) requested that the Commission prepare a report, as specified in section 2104(f) of the Trade Act of 2002 (19 U.S.C. 3804(f)), assessing the likely impact of the U.S.-Korea Free Trade Agreement (FTA) on the U.S. economy as a whole and on specific industry sectors and the interests of U.S. consumers. The Commission transmitted its report (U.S.-Korea Free Trade Agreement: Potential Economy-wide and Selected Sectoral Effects, inv. No. TA-2104-24, USITC pub. 3949) to the USTR in September 2007.

The United States and Korea recently concluded negotiations to modify the FTA, including certain provisions relating to the passenger vehicle sector. In its request letter, the Committee requested that the Commission, under section 332(g) of the Tariff Act of 1930, update its 2007 assessment with respect to the passenger vehicle sector. The Committee asked that the Commission use the most recent data available and include a modeling simulation of the effects of the auto nontariff measures in its assessment.

Written Submissions: Because of the short time frame requested by the Committee, the Commission will not hold a public hearing in connection with this investigation. However, interested parties are invited to submit written statements concerning this investigation. All written submissions should be addressed to the Secretary, and should be received not later than 5:15 p.m., February 14, 2011. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook on Electronic Filing Procedures, http://www.usitc.gov/docket_services/documents/handbook_on_electronic_filing.pdf). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the Committee stated that it intends to make the Commission's report available to the public in its entirety, and asked that the Commission not include any confidential business information in the report that the Commission sends to the Committee. Any confidential business information received by the Commission in this investigation and used in preparing this report will not be published in a manner that would reveal the operations of the firm supplying the information.

By order of the Commission.
Issued: January 28, 2011.
William R. Bishop,
Hearings and Meetings Coordinator.

[FR Doc. 2011-2286 Filed 2-1-11; 8:45 am]

BILLING CODE P